DEPARTMENT OF HEALTH AND HUMAN SERVICES

Centers for Medicare & Medicaid Services

Privacy Act of 1974; Deletion of System of Records

AGENCY: Department of Health and Human Services (HHS), Centers for Medicare & Medicaid Services (CMS).

ACTION: Notice to delete 14 systems of records.

SUMMARY: CMS proposes to delete 14 systems of records from its inventory subject to the Privacy Act of 1974 (Title 5 United States Code 552a).

DATES: Effective Date: The deletions will be effective on September 27, 2005.

ADDRESSES: The public should address comments to: CMS Privacy Officer, Division of Privacy Compliance Data Development, Enterprise Databases Group, Office of Information Services, CMS, Room N2-04-27, 7500 Security Boulevard, Baltimore, Maryland 21244-1850. The telephone number is (410) 786-5357. Comments received will be available for review at this location, by appointment, during regular business hours, Monday through Friday from 9 a.m.-3 p.m., eastern time zone.

SUPPLEMENTARY INFORMATION: CMS is reorganizing its databases because of the amount of information it collects to administer the Medicare program. Retention and destruction of the data contained in these systems will follow the schedules listed in the system notice. CMS is deleting the following systems of records.

Deletions

System No. | Title | System manager
09-70-0030 | National Long-Term Care Study Follow-up | HHS/CMS/ORDI
09-70-0039 | Evaluation of the Medicare Alzheimer's Disease Demonstration | HHS/CMS/ORDI
09-70-0040 | Health Care Financing Administration Medicare Heart Transplant Data File | HHS/CMS/ORDI
09-70-0045 | Evaluation of the Arizona Health Care Cost Containment and Long Term Care Systems Demonstration | HHS/CMS/ORDI
09-70-0046 | Home Health Quality Indicator System | HHS/CMS/ORDI
09-70-0049 | Evaluation of the Home Health Agency Prospective Payment Demonstration | HHS/CMS/ORDI
09-70-0050 | The Medicare/Medicaid Multi-State Case Mix and Quality Data Base for Nursing Home Residents | HHS/CMS/ORDI
09-70-0051 | Quality Assurance for the Home Health Agency Prospective Payment Demonstration | HHS/CMS/ORDI
09-70-0052 | Post-Hospitalization Outcomes Studies | HHS/CMS/ORDI
09-70-0057 | Evaluation of the Medicaid Extension of Eligibility to Certain Low Income Families Not Otherwise Qualified to Receive Medicaid Benefits Demonstration | HHS/CMS/ORDI
09-70-0058 | Evaluation of the Medicare SELECT Program | HHS/CMS/ORDI
09-70-0059 | The Medicaid Necessity Appropriateness and Outcomes of Care Study | HHS/CMS/ORDI
09-70-0063 | Evaluation of the Medicaid Demonstration for Improving Access to Care for Substance Abusing Pregnant Women | HHS/CMS/ORDI
09-70-0066 | Evaluation of and External Quality Assurance for the Community Nursing Organization Demonstration | HHS/CMS/ORDI

Dated: September 27, 2005.
Charlene Brown,
Acting Chief Operating Officer, Centers for Medicare & Medicaid Services.

[FR Doc. 05-19906 Filed 10-5-05; 8:45 am]

BILLING CODE 4120-03-P